DEPARTMENT OF TRANSPORTATION

Federal Aviation Administration

14 CFR Part 39

[Docket No. 2000-NM-358-AD]

RIN 2120-AA64

Airworthiness Directives; Airbus Model A319, A320, and A321 Series Airplanes

AGENCY: Federal Aviation Administration, DOT.

ACTION: Notice of proposed rulemaking (NPRM).

SUMMARY: This document proposes the supersedure of an existing airworthiness directive (AD), applicable to certain Airbus Model A320 series airplanes, that currently requires modification of the autopilot mode engagement/disengagement lever of the rudder artificial feel unit. This action would require a different modification of the lever. It would also revise the applicability to include Airbus Model A319 and A321 series airplanes, as well as all Model A320 series airplanes. This proposal is prompted by issuance of mandatory continuing airworthiness information by a foreign civil airworthiness authority. The actions specified by the proposed AD are intended to prevent reduced controllability of the airplane due to the failure of the rudder artificial feel unit to disengage properly from autopilot mode during approach and landing.

DATES: Comments must be received by April 30, 2001.

ADDRESSES: Submit comments in triplicate to the Federal Aviation Administration (FAA), Transport Airplane Directorate, ANM-114, Attention: Rules Docket No. 2000-NM-358-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-358-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone: (425) 227-2141; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-358-AD.” The postcard will be date stamped and returned to the commenter.

Availability of NPRMs

Any person may obtain a copy of this NPRM by submitting a request to the FAA, Transport Airplane Directorate, ANM-114, Attention: Rules Docket No. 2000-NM-358-AD, 1601 Lind Avenue, SW., Renton, Washington 98055-4056.

Discussion

On October 7, 1999, the FAA issued AD 99-21-29, amendment 39-11375 (64 FR 56158, October 18, 1999), applicable to certain Airbus Model A320 series airplanes, to require modification of the autopilot mode engagement/disengagement lever of the rudder artificial feel unit. That action was prompted by issuance of mandatory continuing airworthiness information by a foreign civil airworthiness authority. The requirements of that AD are intended to prevent reduced controllability of the airplane due to the failure of the rudder artificial feel unit to disengage from autopilot mode during approach and landing.

Actions Since Issuance of Previous Rule

Since the issuance of that AD, several new cases of failure of the rudder artificial feel unit to disengage from autopilot mode have been reported on airplanes that had incorporated the required modification. To address these new cases, Airbus developed a new modification.

Explanation of Relevant Service Information

Airbus has issued Service Bulletin A320-27-1130, dated March 14, 2000, which describes procedures for a new modification of the autopilot mode engagement/disengagement lever of the rudder artificial feel unit. This new modification includes replacing the standard bolt/bushes with shouldered bolts, honing the central bore of the lever, marking the new lever, and conducting a test to check if the piston rod is free to fall after tightening of the nut. Accomplishment of the actions specified in the service bulletin is intended to adequately address the identified unsafe condition. The Direction Générale de l'Aviation Civile (DGAC), which is the airworthiness authority for France, classified this service bulletin as mandatory and issued French airworthiness directive 2000-372-151(B), dated September 6, 2000, in order to assure the continued airworthiness of these airplanes in France.

FAA's Conclusion

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 99-21-29 to require a new modification of the autopilot mode engagement/disengagement lever of the rudder artificial feel unit. The actions would be required to be accomplished in accordance with the service bulletin described previously.

Change to Applicability of Existing AD

The proposed AD expands the applicability of the existing AD to add Airbus Model A319 and A321 series airplanes. These airplanes had Airbus Modification 22624 or 21999 accomplished in production and, therefore, were not included in the applicability of AD 99-21-29.

In addition, the proposed AD expands the applicability of the existing AD in terms of Model A320 series airplanes. AD 99-21-29 did not apply to those Model A320 series airplanes on which Airbus Modification 22624 or 21999 was accomplished in production. Because several additional cases of failure of the autopilot engagement/disengagement lever of the rudder artificial feel unit occurred on airplanes with those modifications, those airplanes are subject to the proposed AD.

Difference Between Proposed Rule and Foreign AD

The French airworthiness directive includes an interim requirement for airplanes without modification 22624 or 21999 embodied in production to modify the autopilot engagement/disengagement lever of the rudder artificial feel unit, in accordance with Airbus Service Bulletin A320-27-1042 or A320-27-1130. The proposed AD does not require modification in accordance with Airbus Service Bulletin A320-27-1042, because that modification has not been effective in preventing failure of the lever.

Cost Impact

There are approximately 291 airplanes of U.S. registry that would be affected by this proposed AD.

The new modification that is proposed in this AD action would take approximately 9 work hours per airplane to accomplish, at an average labor rate of $60 per work hour. Required parts would be provided by the manufacturer at no cost. Based on these figures, the cost impact of the proposed requirements of this AD on U.S. operators is estimated to be $157,140, or $540 per airplane.

The cost impact figure discussed above is based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11375 (64 FR 56158, October 18, 1999), and by adding a new airworthiness directive (AD), to read as follows:

Airbus Industrie: Docket 2000-NM-358-AD Supersedes AD 99-21-29, Amendment 39-11375.

Applicability: Model A319, A320, and A321 series airplanes, certificated in any category, on which Airbus modification 28909 was not accomplished during production;

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent reduced controllability of the airplane, due to the failure of the rudder artificial feel unit to disengage properly from autopilot mode during approach and landing, accomplish the following:

Modification

(a) Within 18 months after the effective date of this AD, modify the autopilot mode engagement/disengagement lever of the rudder artificial feel unit, in accordance with paragraphs 3.B. and 3.C. of the Accomplishment Instructions of Airbus Service Bulletin A320-27-1130, dated March 14, 2000.

Spares

(b) As of the effective date of this AD, no person may install a rudder artificial feel unit having any of the following part numbers on any airplane: D2727040000600, D2727040000651, D2727040000695, D2727040000696, D2727040000800, D2727040000851, D2727040001000, D2727040001051.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the Manager, International Branch, ANM-116.

Special Flight Permits

(d) Special flight permits may be issued in accordance with §§ 21.197 and 21.199 of the Federal Aviation Regulations (14 CFR 21.197 and 21.199) to operate the airplane to a location where the requirements of this AD can be accomplished.

Note 3: The subject of this AD is addressed in French airworthiness directive 2000-372-151(B), dated September 6, 2000.

Issued in Renton, Washington, on March 23, 2001.
Donald L. Riggin,
Acting Manager, Transport Airplane Directorate, Aircraft Certification Service.

[FR Doc. 01-7736 Filed 3-28-01; 8:45 am]

BILLING CODE 4910-13-U